FEDERAL COMMUNICATIONS COMMISSION

[Report No. 2388]

Petitions for Reconsideration of Action in Rulemaking Proceeding

February 11, 2000.

Petitions for Reconsideration have been filed in the Commission's rulemaking Proceeding listed in this Public Notice and published pursuant to 47 CFR Section 1.429(e). The full text of these documents are available for viewing and copying in Room CY-A257, 445 12th Street, S.W., Washington, D.C. or may be purchased from the Commission's copy contractor, ITS, Inc. (202) 857-3800. Oppositions to these petitions must be filed by March 2, 2000. See Section 1.4(b)(1) of the Commission's rules (47 CFR 1.4(b)(1)). Replies to an opposition must be filed within 10 days after the time for filing oppositions has expired.

Subject: Modification and Clarification of Policies and Procedures Governing Siting and Maintenance of Amateur Radio Antennas and Support Structures, and Amendment of Section 97.15 of the Rules Governing the Amateur Radio Service (RM-8763).

Number of Petitions Filed: 2.

Federal Communications Commission.
Magalie Roman Salas,
Secretary.

[FR Doc. 00-3646 Filed 2-15-00; 8:45 am]

BILLING CODE 6717-D-M